DEPARTMENT OF ENERGY

Federal Energy Regulatory Commission

[Docket No. OA00-4-002]

Indianapolis Power & Light Company; Notice of Filing

May 19, 2000.

Take notice that on May 1, 2000, Indianapolis Power & Light Company (Indianapolis) submitted revised standards of conduct in response to the Commission's February 24, 2000 Order.¹

¹ 90 FERC ¶ 61,174 (2000).

Indianapolis states that it served copies of the filing to all parties on the service list, to the Indiana Utility Regulatory Commission and others on the official service list in this proceeding.

Any person desiring to be heard or to protest said filing should file a motion to intervene or protest with the Federal Energy Regulatory Commission, 888 First Street, NE, Washington, DC 20426, in accordance with Rules 211 and 214 of the Commission's Rules of Practice and Procedure (18 CFR 385.211 and 385.214). All such motions or protests must be filed on or before June 5, 2000. Protests will be considered by the Commission to determine the appropriate action to be taken, but will not serve to make protestants parties to the proceeding. Any person wishing to become a party must file a motion to intervene. Copies of Indianapolis's filing are on file with the Commission and are available for public inspection. This filing may also be viewed on the Internet at http://www.ferc.fed.us/online/rims.htm (call 202-208-2222 for assistance).

Linwood A. Watson, Jr.,
Acting Secretary.

[FR Doc. 00-13107 Filed 5-24-00; 8:45 am]

BILLING CODE 6717-01-M